DEPARTMENT OF HEALTH AND HUMAN SERVICES

Centers for Disease Control and Prevention

[60Day-07-07AD]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Formative Research to Inform an HIV Testing Social Marketing Campaign for African American Heterosexual Men—New—National Center for HIV/AIDS, Viral Hepatitis, STD, and TB Prevention (NCHHSTP)[Proposed], Coordinating Center for Infectious Diseases (CCID), Centers for Disease Control and Prevention (CDC).

Background and Brief Description

This project involves formative research to inform the development of the HIV Testing Social Marketing Campaign for African American Heterosexual Men, a CDC-sponsored social marketing campaign aimed at increasing HIV testing rates among young, single, African American men. The study entails conducting focus groups and interviews with a sample of single African American heterosexual men, ages 18 to 45, with less than 4 years of college education to: (1) Explore participants' knowledge, attitudes and beliefs about HIV and HIV testing to inform the development of campaign messages; (2) identify the most motivating approach, supporting data, and key messages for materials development; (3) test creative concepts, potential campaign themes, logos and names; and (4) test creative materials developed based on the findings from the previous phases of the research. Findings from this study will be used by CDC and its partners to inform current and future program activities.

We expect a total of 306 participants to be screened for eligibility. Of the 306 participants who are screened, we expect that 81 people will participate in a focus group and 72 people will participate in an interview. There are no costs to the respondents other than their time.

Estimated Annualized Burden Hours and Burden Table:

Respondents | Number of respondents | Number of responses per respondent | Average burden per response (in hours) | Total burden hours
Screener | 306 | 1 | 10/60 | 51
Focus Group | 81 | 1 | 2 | 162
Interview | 72 | 1 | 1 | 72
Total |  |  |  | 285

Dated: December 6, 2006.
Joan F. Karr,
Acting Reports Clearance Officer, Centers for Disease Control and Prevention.

[FR Doc. E6-21125 Filed 12-11-06; 8:45 am]

BILLING CODE 4163-18-P